DEPARTMENT OF AGRICULTURE

Forest Service

National Urban and Community Forestry Advisory Council

AGENCY: Forest Service, USDA.

ACTION: Notice of meeting.

SUMMARY: The National Urban and Community Forestry Advisory Council will meet on November 15, 2012, at 9:45 a.m. to 2:05 p.m. The meeting will be held in Sacramento California at the Sacramento Convention Center Complex. The purpose of this meeting is to convene for its first meeting of the 2013 fiscal year. The Council will discuss the 2013 grant cycle and process, preparation for the 10 year action plan revisions; work plan action items; communications; and accomplishment/recommendations report.

DATES: The meeting will be held on November 15, 2012, at 9:45 a.m. to 2:05 p.m. Pacific Standard Time.

ADDRESSES: The meeting will be at the Sacramento Convention Center, 1400 J. Street, Sacramento, California. Parking for the Sacramento Convention Center Complex is available at the city-operated Memorial Garage at 14th and H Streets and at privately owned vehicle lots and garages located within walking distance of the facilities. Parking rates vary by location.

Written comments concerning this meeting should be addressed to Nancy Stremple, Executive Staff to the National Urban and Community Forestry Advisory Council, 201 14th Street SW., Yates Building (1 Central) MS-1151, Washington, DC 20250-1151.

Comments may also be sent via email to nstremple@fs.fed.us, or via facsimile to 202-690-5792. All comments, including names and addresses when provided, are placed in the record and are available for public inspection and copying.

FOR FURTHER INFORMATION CONTACT: Nancy Stremple, Executive Staff to the National Urban and Community Forestry Advisory Council, 201 14th Street SW., Yates Building (1 Central) MS-1151, Washington, DC 20250-1151, desk phone 202-205-7829, or unit phone 202-205-1054. Additional information can be found on the Forest Service Web site at http://www.fs.fed.us/ucf/.

Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. Those interested in attending should contact Nancy Stremple to be placed on the meeting attendance list. Council discussion is limited to Forest Service staff and Council members; however, persons who wish to bring urban and community forestry matters to the attention of the Council may file written statements with the Council staff (201 14th Street SW., Yates Building (1 Central) MS-1151, Washington, DC 20250-1151, email: nstremple@fs.fed.us) before or after the meeting. Public input sessions will be provided at the meeting.

Dated: September 24, 2012.
Robin Thompson,
Associate Deputy Chief, State and Private Forestry.

[FR Doc. 2012-24025 Filed 9-28-12; 8:45 am]

BILLING CODE 3410-11-P